DEPARTMENT OF HEALTH AND HUMAN SERVICES

Centers for Disease Control and Prevention

[30Day-13-0009]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

National Disease Surveillance Program (OMB No. 0920-0009 Expiration 4/30/2013)—Revision—National Center for Emerging and Zoonotic Infectious Diseases (NCEZID), Centers for Disease Control and Prevention, (CDC).

Background and Brief Description

Formal surveillance of 16 separate reportable diseases has been ongoing to meet the public demand and scientific interest in accurate, consistent, epidemiologic data. These ongoing disease reports include: Creutzfeldt-Jakob Disease (CJD), Cyclosporiasis, Dengue, Hantavirus, Kawasaki Syndrome, Legionellosis, Lyme disease, Malaria, Plague, Q Fever, Reye Syndrome, Tickborne Rickettsial Disease, Trichinosis, Tularemia, Typhoid Fever, and Viral Hepatitis. Case report forms from state and territorial health departments enable CDC to collect demographic, clinical, and laboratory characteristics of cases of these diseases. We are requesting changes to the Legionellois form that will allow CDC to better detect potential clusters and outbreaks of Legionnaires' disease and to monitor changing epidemiological trends by collecting a greater level of detail for each legionellosis case. The burden to the respondents should be minimally affected by these proposed changes.

The purpose of the proposed study is to direct epidemiologic investigations, identify and monitor trends in reemerging infectious diseases or emerging modes of transmission, to search for possible causes or sources of the diseases, and develop guidelines for prevention and treatment. The data collected will also be used to recommend target areas most in need of vaccinations for selected diseases and to determine development of drug resistance. Because of the distinct nature of each of the diseases, the number of cases reported annually is different for each. There is no cost to respondents other than their time. The total burden requested is 11,447 hours.

Estimated Annualized Burden Hours
Type of respondent | Form name | Number of respondents | Number of responses per respondent | Average burden per response (in hrs)
Epidemiologist | CJD | 20 | 2 | 20/60
Epidemiologist | Cyclosporiasis | 55 | 10 | 15/60
Epidemiologist | Dengue | 55 | 182 | 15/60
Epidemiologist | Hantavirus | 46 | 3 | 20/60
Epidemiologist | Kawasaki Syndrome | 55 | 8 | 15/60
Epidemiologist | Legionellosis | 23 | 12 | 20/60
Epidemiologist | Lyme Disease | 52 | 385 | 10/60
Epidemiologist | Malaria | 55 | 20 | 15/60
Epidemiologist | Plague | 11 | 1 | 20/60
Epidemiologist | Q Fever | 55 | 1 | 10/60
Epidemiologist | Reye Syndrome | 50 | 1 | 20/60
Epidemiologist | Tick-borne Rickettsia | 55 | 18 | 10/60
Epidemiologist | Trichinosis | 25 | 1 | 20/60
Epidemiologist | Tularemia | 55 | 2 | 20/60
Epidemiologist | Typhoid Fever | 55 | 6 | 20/60
Epidemiologist | Viral hepatitis | 55 | 200 | 25/60

Dated: February 28, 2013.
Ron A. Otten,
Director, Office of Scientific Integrity (OSI), Office of the Associate Director for Science (OADS), Office of the Director, Centers for Disease Control and Prevention.

[FR Doc. 2013-05523 Filed 3-8-13; 8:45 am]

BILLING CODE 4163-18-P